DEPARTMENT OF COMMERCE

National Oceanic and Atmospheric Administration

National Sea Grant Advisory Board

AGENCY: National Oceanic and Atmospheric Administration, Department of Commerce.

ACTION: Notice of solicitation for nominations for the National Sea Grant Advisory Board (NSGAB) and notice of public meeting.

SUMMARY: This notice also sets forth the schedule and proposed agenda of a forthcoming meeting of the NSGAB. NSGAB members will discuss and provide advice on the National Sea Grant College Program (NSGCP)in the areas of program evaluation, strategic planning, education and extension, science and technology programs, and other matters as described in the agenda found on the NSGCP Web site at http://seagrant.noaa.gov/WhoWeAre/Leadership/NationalSeaGrantAdvisoryBoard/UpcomingAdvisoryBoardMeetings.aspx.

DATES: The announced meeting is scheduled for Monday, March 7, 2016 from 8:30 a.m. to 5:00 p.m. EDT and Tuesday, March 8, 2016, from 8:30 a.m. to 12:00 p.m. EDT.

ADDRESSES: The meeting will be held at the Washington Plaza Hotel, 10 Thomas Circle, Northwest, Washington, DC 20005.

Status: The meeting will be open to public participation with a 15-minute public comment period on Tuesday, March 8, 2016 at 8:45 a.m. EDT. (Check agenda using link in the Summary section to confirm time.)

The NSGAB expects that public statements presented at its meetings will not be repetitive of previously submitted verbal or written statements. In general, each individual or group making a verbal presentation will be limited to a total time of three (3) minutes. Written comments should be received by Mrs. Jennifer Hinden by Friday, February 24, 2016 to provide sufficient time for NSGAB review. Written comments received after the deadline will be distributed to the NSGAB, but may not be reviewed prior to the meeting date. Seats will be available on a first-come, first-serve basis.

Contact Information: For any questions concerning the meeting, please contact Mrs. Jennifer Hinden, National Sea Grant College Program, National Oceanic and Atmospheric Administration, 1315 East-West Highway, Room 11717, Silver Spring, Maryland 20910, 301-734-1088, Jennifer.Hinden@noaa.gov.

Special Accomodations: These meetings are physically accessible to people with disabilities. Requests for sign language interpretation or other auxiliary aids should be directed to Mrs. Jennifer Hinden by Friday, February 19, 2016.

SUPPLEMENTARY INFORMATION: The NSGAB, which consists of a balanced representation from academia, industry, state government and citizens groups, was established in 1976 by Section 209 of the Sea Grant Improvement Act (Public Law 94-461, 33 U.S.C. 1128).

The NSGAB advises the Secretary of Commerce and the Director of the NSGCP with respect to operations under the Act, and such other matters as the Secretary refers to them for review and advice.

Dated: February 10, 2016.
Jason Donaldson,
Chief Financial Officer, Office of Oceanic and Atmospheric Research, National Oceanic and Atmospheric Administration.

[FR Doc. 2016-03514 Filed 2-24-16; 8:45 am]

BILLING CODE 3510-KA-M